DEPARTMENT OF ENERGY

[Docket No. ER00-2811-000]

ISO New England Inc.; Notice of Filing

June 15, 2000.

Take notice that on June 12, 2000, ISO New England Inc. (the ISO), tendered for filing, pursuant to Section 205 of the Federal Power Act, a request for expedited approval of revisions to the NEPOOL Market Rules in order to implement changes in market mitigation procedures and to facilitate Emergency Energy Transactions.

Copies of said filing have been served upon the Secretary of the NPC, the Participants in the New England Power Pool, non-Participant transmission customers and upon the New England State Governors and Regulatory Commissions.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 26, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-15566 Filed 6-20-00; 8:45 am]

BILLING CODE 6717-01-M